DEPARTMENT OF HEALTH AND HUMAN SERVICES

National Institutes of Health

National Cancer Institute; Amended Notice of Meeting

Notice is hereby given of a change in the meeting of the National Cancer Advisory Board, December 4, 2002, 8:45 a.m. to December 5, 2002, 12 p.m., which was published in the Federal Register on November 8, 2002, 67 FR 68148.

The meeting time has been changed to start at 8:30 a.m. on Wednesday, December 4, 2002. The Subcommittee on Planning and Budget meeting which was scheduled on Wednesday, December 4, 2002 has been cancelled. The meeting is partially closed to the public.

Dated: November 15, 2002.
LaVerne Y. Stringfield,
Director, Office of Federal Advisory Committee Policy.

[FR Doc. 02-29842 Filed 11-22-02; 8:45 am]

BILLING CODE 4140-01-M